DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Dr. Vince Contreras, 240-669-2823; vince.contreras@nih.gov. Licensing information and copies of the U.S. patent application listed below may be obtained by communicating with the indicated licensing contact at the Technology Transfer and Intellectual Property Office, National Institute of Allergy and Infectious Diseases, 5601 Fishers Lane, Rockville, MD 20852; tel. 301-496-2644. A signed Confidential Disclosure Agreement will be required to receive copies of unpublished patent applications.

SUPPLEMENTARY INFORMATION: Technology description follows.

Fusion Glycoprotein Vaccine for Human Metapneumovirus

Description of Technology: Human metapneumovirus (hMPV), a negative, single-stranded RNA virus, accounts for approximately 5-15% of infant respiratory tract infections and poses a severe risk of disease and hospitalization in both the elderly and the immunocompromised. Investigators at the Vaccine Research Center (VRC) of the National Institute of Allergy and Infectious Diseases (NIAID) have generated an hMPV fusion glycoprotein (“F protein”) stabilized in a prefusion conformation.

Stabilizing this prefusion conformation of the F protein reveals an immunodominant site which makes it an ideal vaccine immunogen. The prefusion stabilized F protein immunogen can be delivered as either an isolated homotrimer or trimers displayed on a nanoparticle. These immunogens elicit broad and potent hMPV-neutralizing antibodies.

This technology is available for licensing for commercial development in accordance with 35 U.S.C. 209 and 37 CFR part 404.

Potential Commercial Applications:

• Vaccine for prevention of human metapneumovirus infection

Competitive Advantages:

• No human metapneumovirus vaccine is currently available

Development Stage:

• In vitro data available

• In vivo animal data available

Inventors: Peter D. Kwong, (NIAID), Michael Gordon Joyce (NIAID), Peter L. Collins (NIAID), Ursula J. Buchholz (NIAID), Guillaume Stewart-Jones (NIAID), Baoshan Zhang (NIAID), Yongping Yang (NIAID), Davide Corti (Institute for Research in Biomedicine), Antonio Lanzavecchia (Institute for Research in Biomedicine).

Intellectual Property: HHS Reference Number E-260-2014 includes U.S. Provisional Patent Application No. 62/096,744, filed December 24, 2014; PCT Application No. PCT/IB2015/059991, filed December 24, 2015; U.S. Patent Application No 15/539,640 filed June 23, 2017; EPO Patent Application No. 15831073.0, filed 21 July 2017.

Licensing Contact: Dr. Vince Contreras, 240-669-2823; vince.contreras@nih.gov.

Dated: October 10, 2018.
Suzanne M. Frisbie,
Deputy Director, Technology Transfer and Intellectual Property Office, National Institute of Allergy and Infectious Diseases.

[FR Doc. 2018-23066 Filed 10-22-18; 8:45 am]

BILLING CODE 4140-01-P